SECURITIES AND EXCHANGE COMMISSION

[File No. 500-1]

CompuSonics Video Corporation, Order of Suspension of Trading

December 20, 2013.

It appears to the Securities and Exchange Commission that there is a lack of current and accurate information concerning the securities of CompuSonics Video Corporation because it has not filed any periodic reports since the period ended April 30, 2006.

The Commission is of the opinion that the public interest and the protection of investors require a suspension of trading in the securities of the above-listed company. Therefore, it is ordered, pursuant to Section 12(k) of the Securities Exchange Act of 1934, that trading in the securities of the above-listed company is suspended for the period from 9:30 a.m. EST on December 20, 2013, through 11:59 p.m. EST on January 6, 2014.

By the Commission.
Jill M. Peterson,
Assistant Secretary.

[FR Doc. 2013-30796 Filed 12-20-13; 4:15 pm]

BILLING CODE P